DEPARTMENT OF AGRICULTURE

Office of the Secretary

Forestry Research Advisory Council Charter Renewal

AGENCY: Office of the Secretary, USDA.

ACTION: Notice of the Forestry Research Advisory Council charter renewal.

SUMMARY: The Secretary of Agriculture has renewed the charter of the Forestry Research Advisory Council (FRAC), a statutory committee established in accordance with the Agriculture and Food Act of 1981, Section 1441(c). Chartered under the Federal Advisory Committee Act, the Council provides advice to the Secretary of Agriculture on accomplishing efficiently the purposes of the Act of October 10, 1962 (16 U.S.C. 582a, et seq.), commonly known as the McIntire-Stennis Act of 1962. The Council also provides advice relative to the Forest Service research program, authorized by the Forest and Rangeland Renewable Resources Research Act of 1978 (Pub. L. 95-307, 92 Stat.353, as amended; 16 U.S.C. 1600 (note)). FRAC serves as a joint council between the Forest Service and Cooperative State Research, Education, and Extension Service, agencies within USDA.

DATES: The charter renewal was effective February 14, 2011. As provided by law, the charter will expire 24 months from the date of renewal.

FOR FURTHER INFORMATION CONTACT: Daina Dravnieks Apple, Office of the Deputy Chief, Research and Devlopment, Forest Service, USDA, 202-205-1665. Individuals who use telecommunication devices for the deaf (TDD) may call the Federal Information Relay Service (FIRS) at 1-800-877-8339 between 8 a.m. and 8 p.m., Eastern Standard Time, Monday through Friday.

SUPPLEMENTARY INFORMATION: Pursuant to the Federal Advisory Committee Act (5 U.S.C. App.), notice is hereby given that the Secretary of Agriculture has renewed the charter of the Forestry Research Advisory Council (FRAC). The purpose of FRAC is to advise the Secretary of Agriculture on regional and national research planning and coordination of forestry research within the Federal and State agencies, forestry schools, forest industries, and non-governmental organizations. The Council may fulfill its responsibility to consult on a periodic or regular basis on apportionment of funds. The Council consists of a total of 20 members. The Chair, or designated employee, serves as the Designated Federal Officer under sections 10(e) and (f) of the Federal Advisory Act (5 U.S.C. App.). Any vacancies on the Council will be filled in the manner in which the original appointment was made.

A meeting notice will be published in the Federal Register 15 to 45 days before a scheduled meeting date. All meetings are generally open to the public and may include a “public forum” that may offer 5-10 minutes for participants to present comments to the advisory committee. The Chair of the given Council ultimately makes the decision whether to offer time on the agenda for the public to speak to the general body.

Equal opportunity practices will be followed in all appointments to the advisory committee. To ensure that the recommendations of the FRAC have taken into account the needs of diverse groups served by the Departments, membership will, to the extent practicable, include individuals with demonstrated ability to represent minorities, women, and persons with disabilities.

Dated: March 15, 2011.
Pearlie S. Reed,
Assistant Secretary for Administration.

[FR Doc. 2011-6913 Filed 3-23-11; 8:45 am]

BILLING CODE 3410-11-P